DEPARTMENT OF THE INTERIOR

Bureau of Indian Affairs

[212A2100DD AAK6006201 AOR3030.999900]

Draft Environmental Impact Statement for the Proposed Southern Bighorn Solar Projects, Clark County, Nevada

AGENCY: Bureau of Indian Affairs, Interior.

ACTION: Notice of availability.

SUMMARY: This notice advises the public that the Bureau of Indian Affairs (BIA), as the lead Federal agency, with the Bureau of Land Management (BLM), the Environmental Protection Agency (EPA), U.S. Fish and Wildlife Service (USFWS), and the Moapa Band of Paiute Indians (Moapa Band) as cooperating agencies, intends to file a draft environmental impact statement (DEIS) with the EPA for the proposed Southern Bighorn Solar Projects (SBSPs or Project). The DEIS evaluates photovoltaic (PV) solar energy generation and storage projects on the Moapa River Indian Reservation (Reservation) and collector lines along with the use of existing access roads and an existing generation interconnection (gen-tie) line located on the Reservation, Reservation lands managed by BLM, and BLM lands. This notice also announces that the DEIS is now available for public review and that public meetings will be held to solicit comments on the DEIS.

DATES: The dates and times of the virtual public meetings will be published in the Las Vegas Review-Journal and Moapa Valley Progress and on the following website 15 days before the public meetings: www.southernbighornsolar.com/. In order to be fully considered, written comments on the DEIS must arrive no later April 26, 2021.

ADDRESSES: You may mail, email, hand carry or telefax written comments to Mr. Chip Lewis, Regional Environmental Protection Officer, BIA Western Regional Office, Branch of Environmental Quality Services, 2600 North Central Avenue, 4th Floor Mail Room, Phoenix, Arizona 85004-3008; fax (602) 379-3833; email: chip.lewis@bia.gov.

FOR FURTHER INFORMATION CONTACT: Mr. Chip Lewis, BIA Western Regional Office, Branch of Environmental Quality Services at (602) 379-6750 or Mr. Garry Cantley at (602) 379-6750.

SUPPLEMENTARY INFORMATION: The proposed Federal action, taken under 25 U.S.C. 415, is the BIA's approval of two solar energy ground leases and associated agreements entered into by the Moapa Band with 300MS 8me LLC and 425LM 8me LLC (Applicants). The agreements provide for construction, operation and maintenance (O&M), and eventual decommissioning of the PV electricity generation and battery storage facilities located entirely on the Reservation and specifically on lands held in trust for the Moapa Band, in Clark County Nevada.

The PV electricity generation and battery storage facilities would be located on up to 3,600 acres of tribal trust land (2,600 acres for SBSP I and 1,000 acres for SBSP II) and would have a combined capacity of up to 400 megawatts alternating current (MWac)—300 MWac for SBSP I, and 100 MWac for SBSP II. The two solar Projects include the solar fields, access roads, collector lines, and connection with an existing transmission gen-tie line.

Construction of the 300MWac project is expected to take approximately 14-16 months, and construction of the up to 100MWac project is expected to take approximately 8-10 months. The two projects may be constructed simultaneously or sequentially. The electricity generation and storage facilities are expected to be operated for up to 50 years under the terms of the leases, with time for construction and decommissioning. Major onsite facilities include multiple blocks of solar PV panels mounted on fixed tilt or tracking systems, pad mounted inverters and transformers, collector lines, up to 1,000 MW-hours of battery storage, access roads, and O&M facilities. Water will be needed during construction for dust control and a minimal amount will be needed during operations for administrative and sanitary water use and for panel washing. The water supply required for the Projects would be leased from the Moapa Band. Access to the SBSPs will be provided via North Las Vegas Boulevard from the I-15/US 93 interchange.

The purposes of the proposed Project are, among other things, to: (1) Provide a long-term, diverse, and viable economic revenue base and job opportunities for the Moapa Band; (2) assist Nevada to meet their State renewable energy needs; and (3) allow the Moapa Band, in partnership with the Applicant, to optimize the use of the lease site while maximizing the potential economic benefit to the Moapa Band.

The BIA and BLM will use the EIS to make decisions on the land lease and right-of-way applications under their respective jurisdiction; the EPA may use the document to make decisions under its authorities; the Band may use the DEIS to make decisions under its Environmental Policy Ordinance; and the USFWS may use the DEIS to support its decision under the Endangered Species Act.

Directions for Submitting Comments: Please include your name, return address and the caption: “DEIS Comments, Proposed Southern Bighorn Solar Projects” on the first page of your written comments. You may also submit comments verbally during one of the virtual public meeting presentations or provide written comments to the address listed above in the ADDRESSES section.

To help protect the public and limit the spread of the COVID-19 virus, virtual public meetings will be held, where team members will provide a short presentation and remain available to discuss and answer questions. The PowerPoint presentation will be posted to the project website prior to the virtual meetings. Those who cannot live stream the presentation would be able to access the meeting presentation on the website and could join by telephone. Additionally, the live presentation will be recorded and made accessible for viewing throughout the comment period. The first public meeting will be held in the afternoon by video and telephone conference and the second public meeting will be held in the evening by video and telephone conference. The dates, times, and access information for the virtual meetings will be included in notices to be published in the Las Vegas Review-Journal and Moapa Valley Progress and on the project website at www.southernbighornsolar.com 15 days before the meetings.

Locations Where the DEIS is Available for Review: The DEIS will be available for review at: BIA Western Regional Office, 2600 North Central Avenue, 12th Floor, Suite 210, Phoenix, Arizona; BIA Southern Paiute Agency, 180 North 200 East, Suite 111, St. George, Utah; and the BLM Southern Nevada District Office, 4701 North Torrey Pines Drive, Las Vegas, Nevada. The DEIS is also available on line at: www.southernbighornsolar.com.

To obtain an electronic copy of the DEIS, please provide your name and address in writing or by voicemail to Mr. Chip Lewis or Mr. Garry Cantley. Their contact information is listed in the FOR FURTHER INFORMATION CONTACT section of this notice. Individual paper copies of the DEIS will be provided only upon request.

Public Comment Availability: Written comments, including names and addresses of respondents, will be available for public review at the BIA Western Regional Office, at the mailing address shown in the ADDRESSES section during regular business hours, 8 a.m. to 4:30 p.m., Monday through Friday, except holidays. Before including your address, telephone number, email address, or other personal identifying information in your comment, you should be aware that your entire comment—including your personal identifying information—may be made publicly available at any time. While you can ask us in your comment to withhold your personal identifying information from public review, we cannot guarantee that we will be able to do so.

Authority: This notice is published in accordance with section 1503.1 of the Council on Environmental Quality regulations (40 CFR 1500 et seq.) and the Department of the Interior Regulations (43 CFR part 46) implementing the procedural requirements of the National Environmental Policy Act (42 U.S.C. 4321 et seq.), and in accordance with the exercise of authority delegated to the Principal Deputy Assistant Secretary—Indian Affairs by part 209 of the Department Manual.

Darryl LaCounte,
Director, Bureau of Indian Affairs, exercising the delegated authority of the Assistant Secretary—Indian Affairs.

[FR Doc. 2021-05092 Filed 3-11-21; 8:45 am]

BILLING CODE 4337-15-P